FEDERAL COMMUNICATIONS COMMISSION

47 CFR Part 73

[DA 01-1065; MM Docket No. 00-123, RM 9903]

Radio Broadcasting Services; Rincon, PR.

AGENCY: Federal Communications Commission.

ACTION: Final rule.

SUMMARY: This document denies a Petition for Reconsideration filed by Jose J. Arzuaga, Jr., d/b/a Ocean Communications directed to the Report and Order in this proceeding which denied a proposal for a Channel 300B allotment at Rincon, Puerto Rico. See 66 FR 10658, February 16, 2001. With this action, the proceeding is terminated.

FOR FURTHER INFORMATION CONTACT: Robert Hayne, Mass Media Bureau (202) 418-2177.

SUPPLEMENTARY INFORMATION: This is a synopsis of the Commission's Memorandum Opinion and Order in MM Docket No. 00-123, adopted April 18, 2001, and released April 24, 2001. The full text of this decision is available for inspection and copying during normal business hours in the FCC Reference Information Center at Portals ll, CY-A257, 445 12th Street, SW., Washington, DC. The complete text of this decision may also be purchased from the Commission's copy contractor, International Transcription Service, Inc., (202) 857-3805, 1231 M Street, NW., Washington, DC 20036.

Federal Communications Commission.
John A. Karousos,
Chief, Allocations Branch, Policy and Rules Division, Mass Media Bureau.

[FR Doc. 01-11171 Filed 5-3-01; 8:45 am]

BILLING CODE 6712-01-U